DEPARTMENT OF AGRICULTURE

Forest Service

Colville National Forest, LeClerc Creek Cattle Grazing Allotment

AGENCY: Forest Service, USDA.

ACTION: Notice of intent to prepare an Environmental Impact Statement (EIS).

SUMMARY: The Colville National Forest is proposing to reauthorize livestock grazing in the LeClerc Creek Cattle and Horse Grazing Allotment (hereafter referred to as the allotment). The allotment contains land identified as suitable for domestic livestock grazing in the Colville National Forest Land and Resource Management Plan (Forest Plan). The focus of this project is to analyze management of the existing allotment. This analysis complies with Section 504 of the 1995 Rescissions Bill (Pub. L. 104-19). The Act requires new permits be issued unless there are significant environmental concerns.

DATES: Comments concerning the scope of the analysis must be received by May 19, 2014. The draft environmental impact statement is expected June 2014 and the final environmental impact statement is expected January 2015.

ADDRESSES: Send written comments to Newport/Sullivan Ranger District, 315 N. Warren Ave. Newport, WA 99156. Comments may also be sent via email to comments-pacificnorthwest-newport@fs.fed.us, or via facsimile to 509-447-7301.

FOR FURTHER INFORMATION CONTACT: Michelle Paduani at 509-447-7361 or michellelpaduani@fs.fed.us. Electronic comments must be part of an email message or as an attachment in MS Word format (.doc or .docx), Rich Text Format (.rtf), Plain Text (.txt), or Portable Document Format (.pdf).

Individuals who use telecommunication devices for the deaf (TDD) may call the Federal Information Relay Service (FIRS) at 1-800-877-8339 between 8 a.m. and 8 p.m., Eastern Time, Monday through Friday.

SUPPLEMENTARY INFORMATION:

Project Location

The analysis area encompasses 23,413 acres of land within the LeClerc Creek sub watershed. Primary access is via Fourth of July (FR 1932), East Branch LeClerc (FR 1934), Middle Branch LeC!erc (FR 1935), and West Branch LeC!erc (FR 1933) roads.

Purpose and Need for Action

The focus of this project is to analyze management of the existing grazing allotment permit. Analysis included as part of this environmental impact statement would:

• Comply with Section 504 of the 1995 Rescissions Bill (Pub. L. 104-19);

• Multiple Use Sustained Yield Act of 1960; Forest and Rangeland Renewable Resources Planning Act of 1974; Federal Land Policy and Management Act of 1976; and the National Forest Management Act of 1976.

• It is Forest Service policy to make forage available to qualified livestock operators from lands suitable for grazing consistent with land management plans (CFR 222.2(c); and Forest Service Manual [FSM] 2203.1).

• The need for the proposed action is that a qualified applicant would like to continue livestock grazing on this allotment. Management proposals would move the existing condition toward compliance with the Riparian Management Objectives prescribed in the Inland Native Fish Strategy (USDA, 1995), which would also indirectly lead to moving the state listed stream reach toward State Water Quality standards for temperature. There is also a need to determine what improvements are needed within the allotment, where they are needed, and how to implement the proposals. This includes improving allotment management conditions (e.g., improvement of riparian conditions in some areas, review of allotment boundaries, and improve forage quality and quantity).

The current condition will be evaluated against Forest Plan management objectives and desired future conditions as described by the Forest Plan, Regional Forester's Forest Plan Amendment #2, the Inland Native Fish Strategy Environmental Assessment (INFISH EA) (June 1995).

Proposed Action

The proposed action would include:

• Maintain the current authorization of 535 Animal Unit Months (AUM);

• Change the turn-on date for the allotment from June 1 to June 15. The end of the normal use period would be extended from October 1 to October 15;

• Allotment boundary adjustment;

• Removal of the Fourth of July pasture and associated improvements from the allotment;

• Installation of new fence and improvement of existing fence;

• Installation and maintenance of cattle guards;

• Installation of upland water developments, or other water systems;

• Establish a riparian exclosure;

• Reroute public access to the holding pen at Hanlon Meadow;

• Improve and develop hardened cattle crossings to reduce damage;

• Establish a deferred rotation grazing strategy; and

• Establish designated riparian monitoring areas.

Possible Alternatives

In addition to the Proposed Action and any alternative that is developed following the scoping effort, the project interdisciplinary team will analyze the effects of:

Alternative A—No Change

This alternative would authorize grazing under the existing management plan. There would be no change to existing allotment or pasture boundaries, season of use, and permitted number of cow/calf pairs (101). No new improvements would be installed, with the exception of a riparian exclosure on the lower Middle Branch LeClerc Creek that was planned and approved prior to this project. Other planned management activities would continue. The relocation of the 1935-117 road would still be relocated via the 1935-116 road.

Alternative B—No Action

Alternative B is the “No Grazing” alternative. The Council for Environmental Quality (CEQ) regulations for implementing the National Environmental Policy Act (NEPA) require that a “no action” alternative be developed as a benchmark from which the agency can evaluate the proposed action. No action in grazing management planning is synonymous with “no grazing” and means that livestock grazing would not be authorized within the project area. (USDA-PS 2005a).

Under this alternative, livestock grazing would be discontinued on the LeClerc Creek Allotment and the allotment would be closed. The existing Term Grazing Permit would be cancelled pursuant to Forest Service Handbook (FSH) 2209.13 part 16.24 which references Code of Federal Regulations (CFR) chapter 36, part 222.4(a)(l). 36 CFR 222.4(a)(l) and states “except in an emergency, no permit shall be cancelled without 2 years' prior notification.” The requirement is 2 calendar years (January 1-December 31) notification. The authority to cancel the current Term Grazing Permit lies with the Regional Forester and is delegated to the Forest Supervisor as described in Forest Service Manual (FSM) 2204.2 and 2204.3.

Additionally, no range improvements or resource protection projects would be implemented. Current Forest-wide programs such as noxious weed management and road maintenance would continue. Range improvements including fences, water systems, and corrals would remain on the allotment but would no longer be the responsibility of the permittee to maintain. Existing range improvements would be removed as needed pending available funding and project requirements. It is the desire of the Forest Service to have all range improvements removed within a 10-year time frame but this is subject to change. The Forest Service would attempt to maintain homestead meadows within the project area. The 1935-117 road would be obliterated and decommissioned.

Responsible Official

The responsible official will be the District Ranger, Gayne Sears,Newport/Sullivan Lake Ranger District, Colville National Forest, 315 N Warren Ave., Newport, WA 99156.

Nature of Decision To Be Made

An environmental analysis will evaluate site-specific issues, consider management alternatives and analyze the potential effects of the proposed action and alternatives. An environmental impact statement will provide the Responsible Official with the information needed to decide whether to adopt and implement the proposed action, or an alternative to the proposed action, or take no action to reauthorize livestock grazing in the LeClerc Creek Cattle and Horse Grazing Allotment. This EIS will tier to the Colville National Forest Land and Resource Management Plan and its subsequent amendments, which provide overall guidance for land management activities Colville National Forest.

Preliminary Issues

• Water quality and stream health compliance with INFISH habitat guidelines, Washington Department of Ecology water quality standards, and the Clean Water Act;

• Management of riparian conditions to provide for the continued sustainability of aquatic species;

• Protect soil resources -reduce or minimize compaction, sedimentation, displacement and erosion;

• Ability of the permittee to manage pastures that are physically separated;

• Maintenance of extensive fencing within the allotment;

• Protection of Cultural Resources; and

• Protection of Endangered Species and their habitat.

Scoping Process

This notice of intent continues the scoping process, which guides the development of the environmental impact statement. Public comments about this proposal are requested in order to assist in identifying issues, and determining how to best manage the resources, and focus the analysis.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered; however, anonymous comments will not provide the agency with the ability to provide the commenter with subsequent environmental documents.

Dated: April 11, 2014.
Gayne Sears,
District Ranger.

[FR Doc. 2014-08850 Filed 4-17-14; 8:45 am]

BILLING CODE 3410-11-P